DEPARTMENT OF TRANSPORTATION

Federal Aviation Administration

14 CFR Part 39

[Docket No. 99-SW-62-AD; Amendment 39-11766; AD 2000-11-18]

RIN 2120-AA64

Airworthiness Directives; Eurocopter France Model SA-365C, C1, C2, N, and N1; AS-365N2 and N3; and SA-366G1 Helicopters

AGENCY: Federal Aviation Administration, DOT.

ACTION: Final rule.

SUMMARY: This amendment supersedes an existing airworthiness directive (AD) that applies to Eurocopter France Model SA-365C, C1, C2, N, and N1; AS-365N2, and SA-366G1 helicopters. That AD currently requires inspecting the tightening torque of the main rotor hub blade attach beam spherical thrust bearing bolts (bolts) and either applying a specified torque or, if necessary, inspecting for a crack in the metal components. That AD also requires replacing the spherical thrust bearing (bearing) with an airworthy bearing if a crack is found. This amendment requires the same actions as the existing AD, but adds the Eurocopter France Model AS-365N3 helicopter to the applicability. This amendment is prompted by reports of cracks in the metal components of the bearing attachment joint and the need to add the Eurocopter France Model AS-365N3 helicopter to the applicability. The actions specified by this AD are intended to prevent loosening of bearing bolts in flight, which may cause cracks in the metal components, failure of the bearing, and subsequent loss of control of the helicopter.

EFFECTIVE DATE: July 11, 2000.

FOR FURTHER INFORMATION CONTACT: Paul Madej, Aviation Safety Engineer, FAA, Rotorcraft Directorate, Regulations Group, 2601 Meacham Blvd., Fort Worth, Texas 76137, telephone (817) 222-5125, fax (817) 222-5961.

SUPPLEMENTARY INFORMATION: A proposal to amend part 39 of the Federal Aviation Regulations (14 CFR part 39) by superseding AD 99-21-24, Amendment 39-11369 (64 FR 55621, October 14, 1999), which applies to Eurocopter France Model SA-365C, C1, C2, N, and N1; AS-365N2, and SA-366G1 helicopters, was published in the Federal Register on February 29, 2000 (65 FR 10727). That action proposed to require requires the same actions as the existing AD, but adds the Eurocopter France Model AS-365N3 helicopter to the applicability.

Interested persons have been afforded an opportunity to participate in the making of this amendment. No comments were received on the proposal or the FAA's determination of the cost to the public. The FAA has determined that air safety and the public interest require the adoption of the rule as proposed.

The FAA estimates that 101 helicopters of U.S. registry will be affected by this AD, that it will take approximately 0.5 work hour per helicopter and approximately 3,000 inspections per helicopter over the life of the fleet to accomplish the required actions, and that the average labor rate is $60 per work hour. Required parts will cost approximately $3,000 per helicopter. Based on these figures, the total cost impact of the AD on U.S. operators is estimated to be $9,123,000, assuming 11 ship sets of bearings are replaced on the fleet.

The regulations adopted herein will not have a substantial direct effect on the States, on the relationship between the national Government and the States, or on the distribution of power and responsibilities among the various levels of government. Therefore, it is determined that this final rule does not have federalism implications under Executive Order 13132.

For the reasons discussed above, I certify that this action: (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the FAA, Office of the Regional Counsel, Southwest Region, 2601 Meacham Blvd., Room 663, Fort Worth, Texas.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11369 (64 FR 55621, October 14, 1999), and by adding a new airworthiness directive (AD), Amendment 39-11766, to read as follows:

2000-11-18 Eurocopter France: Amendment 39-11766. Docket No. 99-SW-62--AD. Supersedes AD 99-21-24, Amendment 39-11369, Docket No. 98-SW-75-AD.

Applicability: Eurocopter France Model SA-365C, C1, C2, N, and N1; AS-365N2 and N3; and SA-366G1 helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required within 550 hours time-in-service (TIS), unless accomplished previously, and thereafter at intervals not to exceed 550 hours TIS.

To prevent loosening of the main rotor hub blade attach beam spherical thrust bearing bolts (bolts), cracks in the metal components, failure of a spherical thrust bearing (bearing), and subsequent loss of control of the helicopter, accomplish the following:

(a) Inspect the tightening torque of the bolts as indicated by “A” in Figure 1.

(1) If tightening torque is equal to or less than 12 m.daN (88.4 lb-ft), remove the bearing and conduct a dye penetrant inspection for cracks on the two contact surfaces identified as “H” in Figure 1.

(i) If a crack is detected, replace the bearing with an airworthy bearing.

(ii) If no crack is detected, reinstall the bearing.

Note 2: Eurocopter France Service Bulletins 05.22, 05.24, and 05.00.39, all dated July 17, 1998, pertain to the subject of this AD.

(2) If the tightening torque is greater than 12 m.daN (88.4 lb-ft), then tighten the torque to 19-22 m.daN (140-162.2 lb-ft).

BILLING CODE 4910-13-U

BILLING CODE 4910-13-C

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(c) Special flight permits may be issued in accordance with §§ 21.197 and 21.199 of the Federal Aviation Regulations (14 CFR 21.197 and 21.199) to operate the helicopter to a location where the requirements of this AD can be accomplished.

(d) This amendment becomes effective on July 11, 2000.

Note 4: The subject of this AD is addressed in Direction Generale De L'Aviation Civile (France) AD's 98-383-044(A) for the Model SA-365C, 98-382-024-(A) for the Model SA-366, and 98-384-047(A) for the Model AS-365N helicopters. These AD's are all dated September 23, 1998.

Issued in Fort Worth, Texas, on May 26, 2000.
Eric Bries,
Acting Manager, Rotorcraft Directorate, Aircraft Certification Service.

[FR Doc. 00-14194 Filed 6-5-00; 8:45 am]

BILLING CODE 4910-13-U